DEPARTMENT OF TRANSPORTATION

Federal Motor Carrier Safety Administration

Solicitation of Applications for Fiscal Year (FY) 2007, Safety Data Improvement Program Grant Opportunity

AGENCY: Federal Motor Carrier Safety Administration (FMCSA), DOT.

ACTION: Notice.

SUMMARY: FMCSA announces that it has published an opportunity to apply for FY 2007 Safety Data Improvement Program Grant Opportunity funding on the grants.gov Web site (http://www.grants.gov). Section 4128 of the Safe, Accountable, Flexible, Efficient Transportation Equity Act: A Legacy For Users (SAFETEA-LU) establishes the Safety Data Improvement Program Grant Program Opportunity. The legislation supports a discretionary grant program that provides funding for States to improve the quality of crash and inspection truck and bus data reported by the States to FMCSA, as defined in Section 31102 of Title 49, United States Code. Eligible awardees can include a State agency located in one of the fifty States, the District of Columbia, Puerto Rico, Northern Mariana Islands, American Samoa, Guam, and the U.S. Virgin Islands. To apply for funding, applicants must be registered with grants.gov. Registration with grants.gov may take two to five days before the system will allow you to apply for grants using the grants.gov Web site (http://www.grants.gov/applicants/get_registered.jsp). Submit application in accordance with the instructions provided. Applications for grant funding must be submitted electronically to the FMCSA through the grants.gov Web site. The Catalog of Federal Domestic Assistance (CFDA) number for Safety Data Improvement Program is 20.234.

DATES: FMCSA will initially consider funding for applications submitted by March 31, 2007, by qualified applicants. If additional funding remains available, applications submitted after March 31, 2007 will be considered on a case-by-case basis. Funds will not be available for allocation until fiscal year 2007 appropriations legislation is passed and signed into law. Funding is subject to reductions resulting from obligation limitations or rescissions as specified in SAFETEA-LU or other legislation.

FOR FURTHER INFORMATION CONTACT: Ms. Betsy Benkowski, Federal Motor Carrier Safety Administration, Office of Research and Analysis, Analysis Division, e-mail: betsy.benkowski@.dot.gov, telephone: 202-366-5387, 400 7th Street, SW., Suite 8214, Washington, DC 20590. Office hours are from 8 a.m. to 4:30 p.m., ET, Monday through Friday, except Federal holidays.

Issued on January 29, 2007.
John H. Hill,
Administrator.

[FR Doc. E7-1842 Filed 2-5-07; 8:45 am]

BILLING CODE 4910-MC-P